DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of the RTCA Program Management Committee.

DATES: The meeting will be held June 13, 2012, from 8:30 a.m.-1:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Program Management Committee. The agenda will include the following: June 13, 2012.

• WELCOME AND INTRODUCTIONS

• REVIEW/APPROVE Meeting Summary

• March 21, 2012, RTCA Paper No. 060-12/PMC-979

• PUBLICATION CONSIDERATION/APPROVAL

• Final Draft, New Document—Minimum Aviation System Performance Standards for ADS-B Traffic Surveillance Systems and Applications (ATSSA), RTCA Paper No. 094-12/PMC-985, prepared by SC-186

• Final Draft, New Document, Aircraft Derived Meteorological Data via Data Link for Wake Vortex, Air Traffic Management and Weather Applications—Operational Services and Environmental Definition (OSED), RTCA Paper No. 095-12/PMC-986, prepared by SC-206

• INTEGRATION and COORDINATION COMMITTEE (ICC)—Report

• MASPS, SPR Guidance—Status Update

• Installation Guidance Documents—Possible Guidelines—Discussion

• ACTION ITEM REVIEW

• PMC Ad Hoc—Status—Discussion—SC-206—Aeronautical Information Services (AIS) Data Link—Support and Recommendations

• SC-203—Unmanned Aircraft Systems—Discussion—Committee Status and Review/Approve Revised Terms of Reference

• SC-214—Standards for Air Traffic Data Communication Services—Discussion—References to ICAO Documents

• European/EUROCAE Coordination—Discussion—Overview of Activities

• SC-217—Terrain and Airport Databases—Discussion—Possible Future Activity to Revise RTCA DO-200A and DO-201A

• DISCUSSION

• SC-213—Enhanced Flight Vision Systems/Synthetic Vision Systems (EFVS/SVS)—Discussion—Status and Review/Approve Revised Terms of Reference

• SC-216—Aeronautical Systems Security—Discussion—Status and Review/Approve Revised Terms of Reference

• SC-217—Terrain and Airport Databases—Discussion—Review/Approve Revised Terms of Reference

• SC-225—Small and Medium Sized Rechargeable Lithium Batteries & Battery Systems—Discussion—Status Update

• SC-227—Standards of Navigation—Discussion—Status and Review/Approve Revised Terms of Reference

• NAC Update

• FAA Actions Taken on Previously Published Documents

• Special Committees—Chairmen's Reports

• OTHER BUSINESS

• SCHEDULE for COMMITTEE DELIVERABLES and NEXT MEETING DATE

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 17, 2012.
John Raper,
Manager, Business Operations Branch, Federal Aviation Administration.

[FR Doc. 2012-12689 Filed 5-24-12; 8:45 am]

BILLING CODE 4910-13-P